DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology.

Title: Student Information System.

OMB Control Number: 0693-XXXX.

Form Number(s): None.

Type of Request: Regular Submission

Number of Respondents: 400.

Average Hours per Response: 45 minutes.

Burden Hours: 300 hours.

Needs and Uses: The Student Information System (SIS) is designed to collect on-line applications from students for programs such as the Student Volunteer Program (SVP) and Summer High School Intern Program (SHIP). The purpose of the application is to obtain information needed to evaluate applicant qualifications for potential positions. Students can apply for multiple programs in a single application.

The SIS collects basic biographical information through an on-line application. The application contains four sections. The first section collects personal information to include name, address, phone, email, program selection, work availability, and location preferences. The second section collects work and volunteer experience including start and end date, hours worked, name and address of employer, supervisor's contact information, job description, and job-related skills. The third section collects any special training, knowledge, skill, ability, and/or publications that demonstrate the applicant's skill sets to perform a position. The fourth section collects education information to include current enrollment, name and address of the educational institution, grade point average, and expected date of program completion.

Affected Public: Individuals or households.

Frequency: Annually.

Respondent's Obligation: Required to obtain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2015-18296 Filed 7-24-15; 8:45 am]

BILLING CODE 3510-13-P